DEPARTMENT OF HEALTH AND HUMAN SERVICES

National Institutes of Health

National Institute of Dental and Craniofacial Research; Notice of Closed Meetings

Pursuant to section 1009 of the Federal Advisory Committee Act, as amended, notice is hereby given of the following meetings.

The meetings will be closed to the public in accordance with the provisions set forth in sections 552b(c)(4) and 552b(c)(6), title 5 U.S.C., as amended. The contract proposals/grant applications and the discussions could disclose confidential trade secrets or commercial property such as patentable material, and personal information concerning individuals associated with the grant applications, the disclosure of which would constitute a clearly unwarranted invasion of personal privacy.

Name of Committee: National Institute of Dental and Craniofacial Research Special Emphasis Panel; CROMS Contract Review.

Date: May 30, 2024.

Time: 8:00 a.m. to 5:00 p.m.

Agenda: To review and evaluate contract proposals.

Place: National Institute of Dental & Craniofacial Research, 6701 Democracy Boulevard, Bethesda, MD 20892 (Virtual Meeting).

Contact Person: Christopher Campbell, Ph.D., M.D., Scientific Review Officer, Scientific Review Branch, Division of Extramural Activities, National Institute of Dental & Craniofacial Research, 6701 Democracy Boulevard, Bethesda, MD 20892, 301-827-4603, christopher.campbell@nih.gov.

Name of Committee: National Institute of Dental and Craniofacial Research Special Emphasis Panel; Award for Sustaining Outstanding Achievement in Research (SOAR).

Date: June 13, 2024.

Time: 10:00 a.m. to 5:00 p.m.

Agenda: To review and evaluate grant applications.

Place: National Institute of Dental & Craniofacial Research, 6701 Democracy Boulevard, Bethesda, MD 20892 (Virtual Meeting).

Contact Person: Christopher Campbell, Ph.D., M.D., Scientific Review Officer, Scientific Review Branch, Division of Extramural Activities, National Institute of Dental & Craniofacial Research, 6701 Democracy Boulevard, Bethesda, MD 20892, 301-827-4603, christopher.campbell@nih.gov.

(Catalogue of Federal Domestic Assistance Program No. 93.121, Oral Diseases and Disorders Research, National Institutes of Health, HHS)

Dated: April 29, 2024.
Melanie J. Pantoja,
Program Analyst, Office of Federal Advisory Committee Policy.

[FR Doc. 2024-09638 Filed 5-2-24; 8:45 am]

BILLING CODE 4140-01-P